DEPARTMENT OF HEALTH AND HUMAN SERVICES

Substance Abuse and Mental Health Services Administration

Agency Information Collection Activities: Proposed Collection; Comment Request

In compliance with Section 3506(c)(2)(A) of the Paperwork Reduction Act of 1995 concerning opportunity for public comment on proposed collections of information, the Substance Abuse and Mental Health Services Administration will publish periodic summaries of proposed projects. To request more information on the proposed projects or to obtain a copy of the information collection plans, call the SAMHSA Reports Clearance Officer on (301) 443-7978.

Comments are invited on: (a) whether the proposed collections of information are necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology.

Proposed Project: Core Measures for the Center for Substance Abuse Prevention—New

The mission of SAMHSA's Center for Substance Abuse Prevention (CSAP) is to decrease substance use and abuse and related problems among the American public by bridging the gap between research and practice. CSAP accomplishes this through field-testing scientifically defensible programs; disseminating comprehensive, culturally appropriate prevention strategies, policies, and systems; and capacity building for states and community-based providers. Data are collected from CSAP grants and contracts where participant outcomes are assessed pre- and post-intervention. The analysis of these data help determine whether progress is being made in achieving CSAP's mission.

The primary purpose of the proposed data activity is to promote the use among CSAP grantees and contractors of measures recommended by CSAP as a result of extensive examination and recommendations, using consistent criteria, by panels of experts. The use of consistent measurement for specified constructs across CSAP funded projects will improve CSAP's ability to respond to the Government Performance and Results Act (GPRA) and address goals and objectives outlined in the Office of National Drug Control Policy's Performance Measures of Effectiveness.

It is important to emphasize that CSAP is not requiring the use of these measures if (1)the program does not already plan to target change in the specified construct(s) and/or (2) the measure is not valid for the program's targeted population. The Core Measures are only to be used if appropriate to the program's target population and consistent with the outcome(s) selected by the program. Consequently, no additional burden on the target population is estimated because the program is not being asked to collect data above and beyond what would already have been planned. The annual burden estimated is that for the grantees to extract the necessary data from their files and provide it to CSAP's data coordinating center. The table below summarizes the maximum estimated time, i.e., if all programs used all of the Core Measures—which is unlikely.

Program | No. of grantees | Responses per grantee | Hours per response | Total annual burden
Knowledge Development:
Children of Substance Abusing Parents | 14 | 1 | 3 | 42
Community Initiated | 21 | 1 | 3 | 63
Family Strengthening | 97 | 1 | 3 | 291
Parenting Adolescents and Welfare Reform | 10 | 1 | 3 | 30
High Risk Youth/Youth Connect | 18 | 1 | 3 | 54
Targeted Capacity Enhancement:
HIV/Targeted Capacity | 48 | 1 | 3 | 144
State Incentive Grants | 21 | 1 | 3 | 63
Total | 229 |  |  | 687

Send comments to Nancy Pearce, SAMHSA Reports Clearance Officer, Room 16-105, Parklawn Building, 5600 Fishers Lane, Rockville, MD 20857. Written comments should be received within 60 days of this notice.

Dated: January 23, 2000.
Richard Kopanda,
Executive Officer, SAMHSA.

[FR Doc. 00-2071 Filed 1-31-00; 8:45 am]

BILLING CODE 4162-20-P